DEPARTMENT OF STATE

Bureau of Consular Affairs

[Public Notice 3562]

Certain Foreign Passports Validity

In accordance with section 212(a)(7)(B) of the Immigration and Nationality Act (INA) (8 U.S.C. 1182(a)(7)(B)), a nonimmigrant alien who makes an application for a visa or for admission into the United States is required to possess a passport that: (1) Is valid for a minimum of six months beyond the date of the expiration of the initial period of the alien's admission into the United States or contemplated initial period of stay and, (2) authorizes the alien to return to the country from which he or she came, or to proceed to and enter some other country during such period. Because of the foregoing requirement, certain competent authorities have agreed that their passports will be recognized by them as valid for the return of the bearer for a period of six months beyond the expiration date specified in the passport. In determining the application of (INA) 212(a)(7)(B), the validity period of an unexpired passport shall be six months after the expiration date set forth in the passport. Although already on the list, bearers of Nicaraguan passports, until now, have been limited to diplomatic and official. This public notice adds Nicaragua to the list of competent authorities that have provided the necessary assurances to the Government of the United States. The updated list of competent authorities that have made the necessary assurances is shown below:

Table of Foreign Passports Recognized for Extended Validity

ALGERIA

ANTIGUA & BARBUDA

ARGENTINA

AUSTRALIA

AUSTRIA

BAHAMAS, THE

BANGLADESH

BARBADOS

BELGIUM

BRAZIL

CANADA

CHILE

COLOMBIA

COSTA RICA

COTE D'IVOIRE

CUBA

CYPRUS

CZECH REPUBLIC

DENMARK

DOMINICA

DOMINICAN REPUBLIC

ECUADOR

EGYPT

EL SALVADOR

ETHIOPIA

FINLAND

FRANCE

GERMANY

GREECE

GRENADA

GUINEA

HONG KONG (Certificates of identity & passports)

HUNGARY

ICELAND

INDIA

IRELAND

ISRAEL

ITALY

JAMAICA

JAPAN

JORDAN

KOREA

KUWAIT

LAOS

LEBANON

LIECHTENSTEIN

LUXEMBOURG

MADAGASCAR

MALAYSIA

MALTA

MAURITIUS

MEXICO

MONACO

NETHERLANDS

NEW ZEALAND

NICARAGUA

NIGERIA

NORWAY

OMAN

PAKISTAN

PANAMA

PARAGUAY

PERU

PHILIPPINES

POLAND

PORTUGAL

QATAR

RUSSIA

SENEGAL

SINGAPORE

SLOVAK REPUBLIC

SLOVENIA

SOUTH AFRICA

SPAIN

SRI LANKA

ST. KITTS & NEVIS

ST. LUCIA

ST. VINCENT & THE GRENADINES

SUDAN

SURINAME

SWEDEN

SWITZERLAND

SYRIA

TAIWAN

THAILAND

TOGO

TRINIDAD & TOBAGO

TUNISIA

TURKEY

UNITED ARAB EMIRATES

UNITED KINGDOM

URUGUAY

VENEZUELA

Public Notice 3015 of March 24, 1999 published at 64 FR 14300 is hereby superseded.

Dated: January 21, 2001.
Mary A. Ryan,
Assistant Secretary for Consular Affairs, Department of State.

[FR Doc. 01-2878 Filed 2-1-01; 8:45 am]

BILLING CODE 4710-06-U